DEPARTMENT OF COMMERCE

National Oceanic and Atmospheric Administration

[RTID 0648-XE295]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee.

DATES: The meetings will be held Tuesday, October 8 through Thursday, October 10, 2024. For agenda details, see SUPPLEMENTARY INFORMATION.

ADDRESSES: This meeting will be an in-person meeting with a virtual option. Council members, other meeting participants, and members of the public will have the option to participate in person at the Hyatt Place Dewey Beach, 1301 Coastal Highway, Dewey Beach, DE 19971, or virtually via Webex webinar. Webinar connection instructions and briefing materials will be available at: https://www.mafmc.org/briefing/october-2024.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible).

Tuesday, October 8, 2024

Executive Committee—Open Session

2025 Implementation Plan: Review draft deliverables

Council Convenes

2025-2029 Strategic Plan

Review and provide feedback on draft strategic plan

Offshore Wind Update

Updates from Bureau of Ocean Energy Management (BOEM)

Updates from Mid-Atlantic Regional Council on the Ocean (MARCO) on Offshore Wind Transmission Workshop

Updates from New Jersey Department of Environmental Protection on Offshore Wind Research and Monitoring Initiative Research Priorities

Updates from Northeast Fisheries Science Center (NEFSC) and Greater Atlantic Regional Fisheries Office (GARFO)

General Q&A/Discussion

Habitat Activities Update—GARFO Habitat and Ecosystem Services Division

Presentation on activities of interest in the region

Wednesday, October 9, 2024

2025 Atlantic Mackerel Specifications

Review recommendations from the Scientific and Statistical Committee (SSC), Monitoring Committee, Advisory Panel, and staff

Review previously adopted 2025 specifications and management measures, and recommend changes if necessary

2025-2026 Butterfish Specifications

Review recommendations from the SSC, Monitoring Committee, Advisory Panel, and staff

Adopt specifications for 2025-2026

2025 Spiny Dogfish Specifications

Review recommendations from the SSC, Monitoring Committee, Advisory Panel, and staff

Review previously adopted 2025 specifications and management measures, and recommend changes if necessary

Scientific Coordination Subcommittee 8th National Workshop Outcomes

Review outcomes, recommendations, and action items

LUNCH

Private Recreational Tilefish Permitting, Reporting, and Program Evaluation

Staff overview of recent tilefish permitting and reporting efforts

Review update from GARFO on private recreational tilefish permitting and reporting

Review Tilefish Angler Outreach and Program Evaluation—Willy Goldsmith (Pelagic Strategies) and Jill Stevenson (Stevenson Sustainability Consulting)

Discuss next steps

Proposed Rule: Electronic Reporting Requirements for Atlantic Highly Migratory Species (HMS)—Karyl Brewster-Geisz, Rulemaking Branch Chief, NOAA Fisheries

Presentation on the NOAA HMS proposed rule to modify and/or expand reporting requirements for Atlantic HMS, including reporting by commercial, for-hire, and private recreational vessel owners and dealers

Review of Monkfish Fishery Performance Report and Monkfish Research Set Aside Improvements

Review Monkfish Fishery Performance Report

Review Monkfish Research Set Aside Improvements

Council Awards Discussion

Review existing Council awards: Ricks E Savage Award, Award of Excellence, and James A. Ruhle Cooperative Research Award

Recommend any necessary changes to award descriptions, selection criteria, or nomination/selection procedures

Thursday, October 10, 2024

Business Session

Committee Reports (SSC, Northeast Trawl Advisory Panel (NTAP)); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c)

Special Accommodations

These meetings are physically accessible to people with disabilities. Requests for sign language interpretation or other auxiliary aid should be directed to Shelley Spedden, (302) 526-5251, at least 5 days prior to the meeting date.

Authority: 16 U.S.C. 1801 et seq.

Dated: September 17, 2024.
Rey Israel Marquez,
Acting Deputy Director, Office of Sustainable Fisheries, National Marine Fisheries Service.

[FR Doc. 2024-21578 Filed 9-19-24; 8:45 am]

BILLING CODE 3510-22-P